FEDERAL COMMUNICATIONS COMMISSION

Notice of Public Information Collection(s) Being Reviewed by the Federal Communications Commission, Comments Requested

November 20, 2002.

SUMMARY: The Federal Communications Commission, as part of its continuing effort to reduce paperwork burden invites the general public and other Federal agencies to take this opportunity to comment on the following information collection(s), as required by the Paperwork Reduction Act of 1995, Pub. L. 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before January 28, 2003. If you anticipate that you will be submitting comments, but find it difficult to do so within the period of time allowed by this notice, you should advise the contact listed below as soon as possible.

ADDRESSES: Direct all comments to Judith Boley Herman, Federal Communications Commission, Room 1-C804 or Room 1-A804, 445 12th Street, SW., Washington, DC 20554 or via the Internet to jboley@fcc.gov.

FOR FURTHER INFORMATION CONTACT: For additional information or copies of the information collection(s), contact Judith Boley Herman at 202-418-0214 or via the Internet at jboley@fcc.gov.

SUPPLEMENTARY INFORMATION:

OMB Control No.: 3060-XXXX.

Title: Potential Reporting Requirements on ILECs to Assist Expeditious Implementation of Wireless E911 Service.

Form No.: N/A.

Type of Review: New collection.

Respondents: Business or other for-profit.

Number of Respondents: 6.

Estimated Time Per Response: 8 hours.

Frequency of Response: On occasion reporting requirement, one to four times annually, third party disclosure requirement.

Total Annual Burden: 48-195 hours.

Total Annual Cost: N/A.

Needs and Uses: If adopted, the Commission would approach possibly six of the nation's Incumbent Local Exchange Carriers (ILECs) for information regarding the status of their efforts in connection with wireless enhanced 911 deployment. The six parties could be asked to file information between once and four times annually. The information would be used by the Commission to track 911 deployment progress and to assist all affected parties involved in the implementation process, including Commercial Mobile Radio Service licensees, Public Safety Answering Points (PSAPs), and third party vendors. The Commission will publish in the Federal Register a summary of any decision made entailing this PRA burden.

Federal Communications Commission.
Marlene H. Dortch,
Secretary.

[FR Doc. 02-30165 Filed 11-27-02; 8:45 am]

BILLING CODE 6712-01-P